DEPARTMENT OF ENERGY

Federal Energy Regulatory Commission

[Docket No. CP20-477-000]

Spire Storage West, LLC; Notice of Request Under Blanket Authorization

Take notice that on June 4, 2020, Spire Storage West, LLC (Spire Storage), 3773 Richmond Avenue, Suite 300, Houston, TX 77046, filed in the above referenced docket, a prior notice request pursuant to §§ 157.205 and 157.213(b) of the Commission's regulations under the Natural Gas Act (NGA) and Spire Storage's blanket certificate issued in Docket No. CP11-24-000, for authorization to install one compressor unit and related equipment; relocate one natural gas liquids tank, two condensate tanks, and NGL and condensate truck load-out facilities and to replace two existing fuel supply tanks. The project, referred to as the Compression at Clear Creek Project, is located adjacent to Spire Storage's existing central gas handling facility at its Clear Creek Storage Field in Uinta County, Wyoming. Details of Spire Storage's Compression at Clear Creek Project is more fully set forth in the application which is on file with the Commission and open to public inspection. In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Any questions regarding this prior notice request should be directed to Sean P. Jamieson, General Counsel, Spire Storage West LLC, 3773 Richmond Avenue, Suite 300, Houston, TX 77046, phone: (346) 308-7555 or email: StorageLegal@spireenergy.com or Damien R. Lyster, Vinson & Elkins LLP, 1001 Fannin Street, Suite 2500, Houston, TX 77002, phone: 713-758-2025 or email: dlyster@velaw.com.

Any person or the Commission's staff may, within 60 days after the issuance of the instant notice by the Commission, file pursuant to Rule 214 of the Commission's Procedural Rules (18 CFR 385.214) a motion to intervene or notice of intervention. Any person filing to intervene, or the Commission's staff may, pursuant to § 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

Pursuant to § 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the EA for this proposal. The filing of the EA in the Commission's public record for this proceeding or the issuance of a Notice of Schedule for Environmental Review will serve to notify federal and state agencies of the timing for the completion of all necessary reviews, and the subsequent need to complete all federal authorizations within 90 days of the date of issuance of the Commission staff's EA.

Persons who wish to comment only on the environmental review of this project should submit an original and two copies of their comments to the Secretary of the Commission. Environmental commenters will be placed on the Commission's environmental mailing list and will be notified of any meetings associated with the Commission's environmental review process. Environmental commenters will not be required to serve copies of filed documents on all other parties. However, the non-party commenters will not receive copies of all documents filed by other parties or issued by the Commission and will not have the right to seek court review of the Commission's final order.

The Commission strongly encourages electronic filings of comments, protests, and interventions via the internet in lieu of paper. See 18 CFR 385.2001(a)(1)(iii) and the instructions on the Commission's website (http://www.ferc.gov) under the “e-Filing” link.

Dated: June 5, 2020.
Kimberly D. Bose,
Secretary.

[FR Doc. 2020-12640 Filed 6-10-20; 8:45 am]

BILLING CODE 6717-01-P